DEPARTMENT OF THE INTERIOR

National Park Service

Notice of Conversion of Potential Wilderness as Designated Wilderness, Haleakala National Park

Public Law No. 94-567, Approved October 20, 1976 designated 19,270 acres of Haleakala National Park as wilderness and an additional 5,500 acres as potential wilderness additions. These wilderness designations apply to portions of Haleakala National Park depicted on a map entitled “Wilderness Plan, Haleakala National Park”, numbered 162-20,006-A and dated July 1972, known as the Haleakala Wilderness.

Section 3 of Pub. L. 94-567 directed the Secretary of the Interior to designate that potential wilderness additions be converted to “designated” wilderness through the publication of a notice in the Federal Register stating that these lands have been acquired by the federal government and that any previous uses thereon that are prohibited by the Wilderness Act (Pub. L. 88-577) have ceased.

All lands, with the exception of 51 acres owned by East Maui Irrigation Inc., designated as potential wilderness on map #162-20, 006 have been acquired and are now owned by the U.S. government as administered by Haleakala National Park. There are no current or proposed uses of the 5,449 acres proposed for conversion which are incompatible with the Wilderness Act. Since the 51 acres included within the Maui Irrigation parcel is not owned by the federal government, it will continue to be identified as “potential wilderness” in keeping with the instructions of Pub. L. 94-567.

These 5,449 acres of federally owned land now fully comply with the instructions contained in Pub. L. 95-625. Accordingly, this notice hereby converts the 5,449 acres of “potential wilderness: within Haleakala National Park to designated wilderness.” The 5,449 acres are accordingly added to the 19,270 acres already preserved within the National Wilderness Preservation System and bring the total area of designated wilderness at Haleakala National Park to 24,719 acres of wilderness and 51 acres of “potential wilderness”. It is noted that construction of fences to exclude feral animals and access into the wilderness via helicopter for fence maintenance to control destructive invasive alien plants and non-native animals may be necessary to preserve wilderness resources and ecosystem processes.

Dated: February 1, 2002.
Fran P. Mainella,
Director, National Park Service.

[FR Doc. 02-3563 Filed 2-13-02; 8:45 am]

BILLING CODE 4310-70-P